DEPARTMENT OF COMMERCE

International Trade Administration

[C-557-822]

Utility Scale Wind Towers From Malaysia: Final Results and Partial Rescission of Countervailing Duty Administrative Review; 2022

AGENCY: Enforcement and Compliance, International Trade Administration, Department of Commerce.

SUMMARY: The U.S. Department of Commerce (Commerce) determines that CS Wind Malaysia Sdn Bhd (CS Wind), a producer/exporter of utility scale wind towers (wind towers) from Malaysia, received countervailable subsidies during the period of review (POR) January 1, 2022, through December 31, 2022.

DATES: Applicable June 16, 2025.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On September 13, 2024, Commerce published the Preliminary Results of this administrative review and invited parties to comment.¹ On December 9, 2024, Commerce tolled certain deadlines in this administrative proceeding by 90 days.² On April 8, 2024, Commerce extended the deadline for the final results until June 10, 2025.³ For a complete description of the events that occurred since the Preliminary Results, see the Issues and Decision Memorandum.⁴

¹ See Utility Scale Wind Towers from Malaysia: Preliminary Results and Preliminary Partial Rescission of Countervailing Duty Administrative Review, 2022, 89 FR 74867 (September 13, 2024) (Preliminary Results), and accompanying Preliminary Decision Memorandum.

² See Memorandum, “Tolling of Deadlines for Antidumping and Countervailing Duty Proceedings,” dated December 9, 2024.

³ See Memorandum, “Extension of Deadline for Final Results of Countervailing Duty Administrative Review,” dated April 8, 2024.

⁴ See Memorandum, “Issues and Decision Memorandum for the Final Results of the Administrative Review of the Countervailing Duty Order on Utility Scale Wind Towers from Malaysia; 2022,” dated concurrently with, and hereby adopted by, this notice (Issues and Decision Memorandum).

Scope of the Order

The products covered by this order are wind towers from Malaysia. For a complete description of the scope of this order, see the Issues and Decision Memorandum.

Analysis of Comments Received

All issues raised in the case and rebuttal briefs submitted by interested parties in this review are addressed in the Issues and Decision Memorandum. A list of the issues raised by parties is provided as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://access.trade.gov/public/FRNoticesListLayout.aspx.

Changes Since the Preliminary Results

After evaluating the comments received from interested parties, and having re-examined certain record information, we have made certain changes to CS Wind's subsidy rate calculations. For a discussion of these changes, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁵ For a description of the methodology underlying Commerce's conclusions, see the Issues and Decision Memorandum.

⁵ See sections 771(5)(B) and (D) of the Act regarding financial contribution; section 771(5)(E) of the Act regarding benefit; and section 771(5A) of the Act regarding specificity.

Rescission of Administrative Review, In Part

On September 13, 2024, Commerce notified interested parties that we intended to rescind this administrative review for 11 companies for which the record information shows no suspended entries of subject merchandise during the POR. No parties commented on the notification of intent to rescind the review, in part. Therefore, we find that there were no entries of subject merchandise during the POR by the following companies: (1) CS Wind Corporation; (2) CS Wind China Co., Ltd; (3) CS Wind Taiwan Ltd; (4) CS Wind Turkey Kule İmalatı A.Ş.; (5) CS Wind UK Limited; (6) CS Wind Vietnam Co., Ltd; (7) CS Wind Portugal, S. A.; (8) GE Renewable Energy; (9) GE Renewable Malaysia Sdn. Bhd; (10) Nordex SE; and (11) Siemens Gamesa Renewable Energy, S.A. As a result of our finding, we are rescinding this review, in part, pursuant to 19 CFR 351.213(d)(3), with respect to these companies.

Final Results of Administrative Review

We determine that, for the period January 1, 2022, through December 31, 2022, the following net countervailable subsidy rate exists:

Producer/exporter | Subsidy rate (percent ad valorem)
CS Wind Malaysia Sdn. Bhd | 4.26

Disclosure

Commerce intends to disclose the calculations performed for these final results of review within five days of the date of publication of this notice in the Federal Register, in accordance with 19 CFR 351.224(b).

Assessment Rate

Pursuant to section 751(a)(2)(C) of the Act, Commerce will determine, and U.S. Customs and Border Protection (CBP) shall assess, countervailing duties on all appropriate entries of subject merchandise in accordance with the final results of this review, for the above-listed company at the applicable ad valorem assessment rate. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amount shown for the company listed above. For all non-reviewed firms, we will instruct CBP to continue to collect cash deposits of estimated countervailing duties at the most recent company-specific or all-others rate applicable to the company, as appropriate. These cash deposits, when imposed, shall remain in effect until further notice.

Administrative Protective Order (APO)

This notice also serves as a final reminder to parties subject to an APO of their responsibility concerning the return or destruction of proprietary information disclosed under APO in accordance with 19 CFR 351.305(a)(3). Timely written notification of the return/destruction of APO materials or conversion to judicial protective order is hereby requested. Failure to comply with the regulations and terms of an APO is a sanctionable violation.

Notice to Interested Parties

These final results are issued and published in accordance with sections 751(a)(1) and 777(i)(1) of the Act, and 19 CFR 351.221(b)(5).

Dated: June 10, 2025.
Steven Presing,
Acting Deputy Assistant Secretary for Policy and Negotiations.

Appendix

List of Topics Discussed in the Issues and Decision Memorandum

I. Summary

II. Background

III. Scope of the Order

IV. Period of Review

V. Changes from the Preliminary Results

VI. Subsidies Valuation Information

VII. Rescission of Administrative Review, in Part

VIII. Analysis of Programs

IX. Discussion of the Issues

Comment 1: Whether to Grant CS Wind an Entered Value Adjustment (EVA)

Comment 2: Whether Commerce Should Apply Adverse Facts Available (AFA) to the Land for Less than Adequate Remuneration (LTAR) Program

Comment 3: Whether CS Wind Received Countervailable Benefits Under the Import Duty Exemption Program

Comment 4: Whether Commerce Should Modify the Benefit Calculation for the Import Duty Exemption Program

Comment 5: Whether Commerce Should Countervail the Provision of Cut-To-Length (CTL) Plate for LTAR

Comment 6: Whether Commerce Should Revise its Water Benchmark

Comment 7: Whether Commerce Should Revise its Electricity Benchmark

VIII. Recommendation

[FR Doc. 2025-10945 Filed 6-13-25; 8:45 am]

BILLING CODE 3510-DS-P